DEPARTMENT OF DEFENSE

Air Force Department

Exchange of Air Force Real Property for Military Construction

ACTION: Notice.

Authority: Title 10, United States Code, Section 2869(d)(1).

SUMMARY: This Notice identifies excess Federal property under the administrative jurisdiction of the United States Air Force that the Air Force intends to exchange for military construction beneficial to the Air Force.

FOR FURTHER INFORMATION CONTACT: Mr. Sam Rupe, Office of the Air Force General Counsel (SAF/GCN-RPO), 143 Billy Mitchell Blvd., Suite 1, San Antonio, TX 78226-1816; telephone (210) 925-0227, (this telephone number is not toll-free).

SUPPLEMENTARY INFORMATION: In accordance with 10 U.S.C. 2869(d)(1), the Air Force is publishing this Notice to identify Federal real property that the Air Force intends to dispose of in exchange for military construction beneficial to the Air Force.

Description of the Air Force property:

Former Lynn Haven Defense Fuel Depot, Lynn Haven, FL.

Property Number:

Status: Excess.

Comments: Fuel operations at the Fuel Depot ceased in 1992, and the property has undergone considerable environmental remediation. The property proposed for exchange is approximately 144 acres of real property located off West 10th Street, Lynn Haven, FL 32444. About 50 acres is a railway right-of-way extending about 3.7 miles that intersects several major arterial roads.

Military construction sought:

After completion of a competitive bid process, the Air Force will enter into an agreement with the selected offeror/property recipient to construct military construction projects at Tyndall Air Force Base, FL. The specific projects that will be constructed will depend on the amount of construction value offered by the prospective property recipient.

Bao-Anh Trinh,
Air Force Federal Register Liaison Officer.

[FR Doc. E8-21833 Filed 9-17-08; 8:45 am]

BILLING CODE 5001-05-P